DEPARTMENT OF COMMERCE

International Trade Administration

[A-570-803]

Heavy Forged Hand Tools From the People's Republic of China: Final Results of New Shipper Administrative Review

AGENCY: Import Administration, International Trade Administration, Department of Commerce.

ACTION: Notice of final results in the antidumping duty new shipper administrative review of heavy forged hand tools from the People's Republic of China.

SUMMARY: On August 1, 2001, the Department of Commerce (Department) published the preliminary results of the new shipper review of the antidumping duty order on hammers/sledges, one of the four antidumping duty orders on heavy forged hand tools (HFHTs) from the People's Republic of China (PRC). This review covers one manufacturer/exporter. The period of review (POR) is February 1, 2000 through July 31, 2000.

Based on our analysis of the comments received, we have made changes to the margin calculation. Therefore, the final results differ from the preliminary results. The final weighted-average dumping margin for the reviewed firm is listed below in the section entitled Final Results of Review.

EFFECTIVE DATE: October 29, 2001.

FOR FURTHER INFORMATION CONTACT: Esther Chen, Tom Martin, or Ron Trentham, AD/CVD Enforcement Group II, Office 4, Import Administration, International Trade Administration, Department of Commerce, 14th Street and Constitution Avenue, NW., Washington, DC 20230, telephone: (202) 482-2305, (202) 482-3936 and (202) 482-6320, respectively.

SUPPLEMENTARY INFORMATION:

Applicable Statute

Unless otherwise indicated, all citations to the Tariff Act of 1930 (Act) are references to the provisions as of January 1, 1995, the effective date of the amendments made to the Act by the Uruguay Round Agreements Act (URAA). In addition, unless otherwise indicated, all citations to the Department's regulations are to the regulations at 19 CFR part 351 (2000).

Background

The Department published in the Federal Register the antidumping duty orders on HFHTs from the PRC on February 19, 1991. See Antidumping Duty Orders: Heavy Forged Hand Tools, Finished or Unfinished, With or Without Handles, From the People's Republic of China, 56 FR 6622 (February 19, 1991). On July 20, 2000, the Department received a request from Shandong Jinma Industrial Group Co., Ltd. (Jinma) for a new shipper review of the antidumping duty order on HFHTs covering hammers/sledges pursuant to section 751(a)(2)(B) of the Act and section 351.214(b) of the Department's regulations. These provisions state that, if the Department receives from an exporter or producer of the subject merchandise a request for review, which states that it did not export the merchandise to the United States during the period covered by the original less-than-fair-value (LTFV) investigation and that such exporter or producer is not affiliated with any exporter or producer who exported the subject merchandise during that period, then the Department shall conduct a new shipper review to establish an individual weighted-average dumping margin for the requesting exporter or producer, if the Department has not previously established such a margin for the exporter or producer. The regulations require the exporter or producer to include in its request: (1) Documentation establishing the date on which the merchandise was first entered, or withdrawn from the warehouse, for consumption, or, if it cannot establish the date of the first entry, the date on which it first shipped the merchandise for export to the United States, or if the merchandise has not yet been shipped or entered, the date of sale; (2) a list, with appropriate certifications, of the firms with which it is affiliated; (3) a certification from such exporter or producer, and from each affiliated firm, that they did not, under their current or former names, export the merchandise during the LTFV period of investigation (POI), and (4) in an antidumping proceeding involving inputs from a nonmarket economy country, a certification that the export activities of such exporter or producer are not controlled by the central government. See 19 CFR 351.214(b)(2)(ii), (iii), and (iv); Statement of Administrative Action (SAA) Accompanying the URAA, H.R. Doc. No. 103-316, vol. 1 (1994) at 875.

Jinma's request was accompanied by information and certifications establishing the date on which it first shipped the subject merchandise. Jinma also claimed it had no affiliated companies which exported hammers/sledges from the PRC during the POI. In addition, Jinma certified that its export activities are not controlled by the central government. Based on the above information, the Department initiated a new shipper review covering Jinma. See Heavy Forged Hand Tools From the People's Republic of China; Initiation of New Shipper Antidumping Administrative Review, 65 FR 59824 (October 6, 2000). On March 26, 2001, the Department published an extension of the deadline for completion of the preliminary results of this new shipper review until July 25, 2001. See Notice of Extension of Time Limit for Preliminary Results of New Shipper Antidumping Review: Heavy Forged Hand Tools, Finished or Unfinished, With or Without Handles, From the People's Republic of China, 66 FR 16444 (March 26, 2001).

On August 1, 2001, the Department published the preliminary results of the new shipper review of Jinma with respect to the antidumping duty order on hammers/sledges from the PRC. See Notice of Preliminary Results of Antidumping Duty New Shipper Review: Heavy Forged Hand Tools, Finished or Unfinished, With or Without Handles, From the People's Republic of China, 66 FR 39733 (August 1, 2001). We invited interested parties to comment on the preliminary results of this review. On September 4, 2001, we received comments from the respondent Jinma. No rebuttal comments were received. The Department has now completed this new shipper review in accordance with section 751 of the Act.

Scope of Review

HFHTs from the PRC comprise the following classes or kinds of merchandise: (1) Hammers and sledges with heads over 1.5 kg (3.33 pounds) (hammers/sledges); (2) bars over 18 inches in length, track tools and wedges (bars/wedges); (3) picks/mattocks; and (4) axes/adzes. This review covers shipments of one class or kind of merchandise, hammers and sledges with heads over 1.5 kg (3.33 pounds).

HFHTs include heads for drilling, hammers, sledges, axes, mauls, picks, and mattocks, which may or may not be painted, which may or may not be finished, or which may or may not be imported with handles; assorted bar products and track tools including wrecking bars, digging bars and tampers; and steel wood splitting wedges. HFHTs are manufactured through a hot forge operation in which steel is sheared to required length, heated to forging temperature, and formed to final shape on forging equipment using dies specific to the desired product shape and size. Depending on the product, finishing operations may include shot-blasting, grinding, polishing and painting, and the insertion of handles for handled products. HFHTs are currently classifiable under the following Harmonized Tariff Schedule (HTS) subheadings: 8205.20.60, 8205.59.30, 8201.30.00, and 8201.40.60. Specifically excluded are hammers and sledges with heads 1.5 kg (3.33 pounds) in weight and under, hoes and rakes, and bars 18 inches in length and under. Although the HTS subheadings are provided for convenience and Customs purposes, our written description of the scope of these orders is dispositive. This review covers the period February 1, 2000 through July 31, 2000.

Analysis of Comments Received

All issues raised in the briefs submitted by parties to this new shipper administrative review are addressed in the Issues and Decision Memorandum for the New Shipper Review of Heavy Forged Hand Tools from the People's Republic of China—February 1, 2000 through July 31, 2000 from Bernard T. Carreau, Deputy Assistant Secretary, Import Administration, to Faryar Shirzad, Assistant Secretary for Import Administration (Decision Memorandum), dated concurrently with the review results and hereby adopted by this notice. A list of the issues which parties have raised and to which we have responded, all of which are in the Decision Memorandum, is attached to this notice as an Appendix. Parties can find a complete discussion of all issues raised in this review and the corresponding Department positions in this public memorandum, which is on file at the U.S. Department of Commerce, in the Central Records Unit, room B-099. In addition, a complete version of the Decision Memorandum is accessible on the web at http://ia.ita.doc.gov/frn. The paper copy and electronic version of the Decision Memorandum are identical in content.

Changes Since the Preliminary Results

Based on our analysis of comments received, we have made the following changes to the margin calculation:

1. For the surrogate value of wooden tool handles, the Department used Indian import data for HTS category 4417 during the period, April 1999 through February 2000. See Comment 1 of the Decision Memorandum.

2. For the surrogate value of electricity, the Department used an Indian electricity surrogate value obtained from the Energy Data Directory & Yearbook 1999-2000 (TEDDY). See Comment 2 of the Decision Memorandum

3. In calculating surrogate values for the factors of production for HFHTs, the Department included all imports of inputs weighing under 100 kilograms unless the quantity or value was found to be aberrational. See Memorandum From Jeff Pedersen Regarding Factors of Production Valuation/Analysis Memorandum for the Final Results of the New Shipper Review of Heavy Forged Hand Tools, Finished or Unfinished, With or Without Handles (HFHTs), from the People's Republic of China (PRC) Shandong Jinma Industrial Group Co., Ltd. (Jinma) (Analysis Memorandum).

Final Results of Review

We determine that the following weighted-average margin percentage exists for the period February 1, 2000 through July 31, 2000:

Manufacturer/exporter | Time period | Margin (percent)
Shandong Jinma Industrial Group Co., Ltd.: Hammers/Sledges | 2/1/00-7/31/00 | 0.00

Assessment

The Department shall determine, and the U.S. Customs Service (Customs) shall assess, antidumping duties on all appropriate entries. While Jinma's calculated dumping margin is 0 percent, we have calculated importer-specific assessments for Jinma's sales to the United States. Where the importer-specific assessment rate is above de minimis, we will instruct Customs to assess dumping duties on that importer's entries of subject merchandise.

Cash Deposit Requirements

The following deposit requirements will be effective upon publication of this notice of final results of the new shipper administrative review for all shipments of hammers/sledges from the PRC entered, or withdrawn from warehouse, for consumption on or after the date of publication, as provided by section 751(a) of the Act: (1) For the exporter named above, no cash deposit will be required; (2) the cash deposit rate for PRC exporters who received a separate rate in a prior segment of the proceeding will continue to be the rate assigned in the most recent segment of the proceeding during which they were reviewed; (3) the cash deposit rate for the PRC-wide entity (i.e., all other exporters, which have not been reviewed) will continue to be 27.71 percent; and (4) the cash deposit rate for non-PRC exporters of subject merchandise from the PRC will be the rate applicable to the PRC supplier of that exporter.

These deposit requirements shall remain in effect until publication of the final results of the next administrative review.

Notification

This notice also serves as a final reminder to importers of their responsibility under 19 CFR 351.402(f) to file a certificate regarding the reimbursement of antidumping duties prior to liquidation of the relevant entries during this review period. Failure to comply with this requirement could result in the Secretary's presumption that reimbursement of antidumping duties occurred and in the subsequent assessment of doubled antidumping duties.

This notice also serves as the only reminder to parties subject to administrative protective orders (APO) of their responsibility concerning the disposition of proprietary information disclosed under APO in accordance with 19 CFR 351.305(a)(3). Timely written notification of the return/destruction of APO material or conversion to judicial protective order is hereby requested. Failure to comply with the regulations and terms of an APO is a violation which is subject to sanctions.

We are issuing and publishing this determination and notice in accordance with sections 751(a)(1) and 777(i) of the Act.

Dated: October 23, 2001.
Richard W. Moreland,
Acting Assistant Secretary for Import Administration.

Appendix—Issues in Decision Memorandum

Comments and Responses

1. Excluding aberrational data from the Indian import data used in valuing wooden tool handles

2. Use of TEDDY for Indian electricity surrogate values

[FR Doc. 01-27165 Filed 10-26-01; 8:45 am]

BILLING CODE 3510-DS-P